DEPARTMENT OF THE TREASURY

Submission for OMB Review; Comment Request

July 31, 2009.

The Department of the Treasury will submit the following public information collection requirement(s) to OMB for review and clearance under the Paperwork Reduction Act of 1995, Public Law 104-13, on or after the date of publication of this notice. Copies of the submission(s) may be obtained by calling the Treasury Bureau Clearance Officer listed. Comments regarding this information collection should be addressed to the OMB reviewer listed and to the Treasury Department Clearance Officer, Department of the Treasury, Room 11000, and 1750 Pennsylvania Avenue, NW., Washington, DC 20220.

Dates: Written comments should be received on or before September 8, 2009 to be assured of consideration.

Internal Revenue Service (IRS)

OMB Number: 1545-2136.

Type of Review: Extension.

Form: 8934.

Title: Form 8934—Application for Approval of a Mechanical Dye Injection System.

Description: Form 8934, an application form, will allow the IRS to evaluate whether a refinery or terminal operator that handles diesel fuel and kerosene has a properly functioning mechanical dye injection system. A mechanical dye system has to be meeting certain specifications in order to be exempt from the excise tax. A dye has to be injected into the fuel and meet certain concentration requirements. Also, the refinery must meet safety standards and maintain required records.

Respondents: Businesses or other for-profits.

Estimated Total Burden Hours: 383 hours.

OMB Number: 1545-2137.

Type of Review: Extension.

Title: Notice 2009-54—Qualified Plug-in Electric Vehicle Credit.

Description: The Energy Improvement and Extension Act of 2008 added new § 30D of the Internal Revenue Code to authorize credit for new qualified plug-in electric drive motor vehicles. This notice provides procedures for a vehicle manufacturer to certify that a motor vehicle meets certain requirements for the credit, and to certify the amount of the credit available with respect to the motor vehicle. The notice also provides guidance to taxpayers who purchase motor vehicles regarding the conditions under which they may rely on the vehicle manufacturer's certification.

Respondents: Individuals or households.

Estimated Total Burden Hours: 280 hours.

OMB Number: 1545-2138.

Type of Review: Extension.

Form: W-8CE.

Title: Form W-8CE—Notice of Expatriation and Waiver of Treaty Benefits.

Description: Information used by taxpayer to notify payer of expatriation so that proper tax treatment is applied by payer. The taxpayer is required to file this form to obtain any benefit accorded by the statute.

Respondents: Individuals or households.

Estimated Total Burden Hours: 2,840 hours.

OMB Number: 1545-2139.

Type of Review: Extension.

Form: 14039.

Title: Identity Theft Affidavit.

Description: The primary purpose of the form is to provide a method of reporting identity theft issues to the IRS so that the IRS may document situations where individuals are or may be victims of identity theft. Additional purposes include the use in the determination of proper tax liability and to relieve taxpayer burden. The information may be disclosed only as provided by 26 U.S.C 6103.

Respondents: Individuals or households.

Estimated Total Burden Hours: 25,000 hours.

Clearance Officer: R. Joseph Durbala (202) 622-3634, Internal Revenue Service, Room 6516, 1111 Constitution Avenue, NW., Washington, DC 20224.

OMB Reviewer: Shagufta Ahmed (202) 395-7873, Office of Management and Budget, Room 10235, New Executive Office Building, Washington, DC 20503.

Celina Elphage,
Treasury PRA Clearance Officer.

[FR Doc. E9-18991 Filed 8-6-09; 8:45 am]

BILLING CODE 4830-01-P